NATIONAL COUNCIL ON DISABILITY

Cultural Diversity Advisory Committee Meeting (Teleconference)

AGENCY: National Council on Disability (NCD).

Pursuant to the Federal Advisory Committee Act, Pub. L. 92-463, NCD gives notice that its Cultural Diversity Advisory Committee (CDAC) will hold a meeting by conference call on the date and time noted below.

Date and Time: Thursday, August 21, 2008, 2:30 p.m. EDT.

Place: NCD, 1331 F Street, NW., Suite 850, Washington, DC 20004.

Status: All parts of this conference call will be open to the public. People interested in participating on this call should contact the appropriate staff member listed below. Due to limited resources, only a few telephone lines will be available.

Agenda: Roll call, announcements, reports, new business, adjournment. A detailed agenda will be posted 10 days before the meeting at http://www.ncd.gov/newsroom/advisory/cultural/cultural.htm.

Contact Person for More Information: To obtain information on the meeting, including the call-in number, please contact Mark S. Quigley, NCD, 1331 F Street, NW., Suite 850, Washington, DC 20004, 202-272-2008 (direct voice), 202-272-2074 (TTY), 202-272-2022 (fax), mquigley@ncd.gov (e-mail).

Cultural Diversity Advisory Committee Mission: The purpose of NCD's CDAC is to provide advice and recommendations to NCD on issues affecting people with disabilities from culturally diverse backgrounds.

Accommodations: People needing reasonable accommodations should notify NCD immediately.

Dated: August 8, 2008.
Michael C. Collins,
Executive Director.

[FR Doc. E8-18969 Filed 8-14-08; 8:45 am]

BILLING CODE 6820-MA-P